DEPARTMENT OF THE INTERIOR

Fish and Wildlife Service

[FWS-R3-ES-2008-N0041; 30120-1122-0000 F2]

Notice: Receipt of application for an Enhancement of Survival Permit; Request for Comments

AGENCY: Fish and Wildlife Service, Interior.

ACTION: Notice of availability and receipt of application.

SUMMARY: The DuPage County Forest Preserve District (District) (Applicant) has applied to the U.S. Fish and Wildlife Service (Service) for an enhancement of survival permit pursuant to Section 10(a)(1)(A) of the Endangered Species Act of 1973, as amended (Act). The permit application includes a draft Safe Harbor Agreement (Agreement) between the Applicant and the Service for the Hine's emerald dragonfly (Somatochlora hineana). Section 9 of the Act and its implementing regulations prohibit the take of animal species listed as endangered or threatened. The definition of take under the Act includes the following activities: to harass, harm, pursue, hunt, shoot, wound, kill, trap, capture, or collect listed animal species, or attempt to engage in such conduct (16 U.S.C. 1538). Section 10 of the Act, 16 U.S.C. 1539, establishes a program whereby persons seeking to pursue activities that otherwise could give rise to liability for unlawful “take” of federally protected species may receive a permit, which protects them from such liability. The Hine's emerald dragonfly (HED) was listed as endangered by the Service in January 1995. A Recovery Plan for the species was published in September 2001.

The Service has made a preliminary determination that the proposed Agreement and permit application are eligible for categorical exclusion under the National Environmental Policy Act of 1969 (NEPA). The basis for this determination is contained in an Environmental Action Statement and low-effect screening form, which are also available for public review.

DATES: To ensure consideration, we must receive your written comments on or before April 21, 2008.

ADDRESSES: Send your comments or request information by any of the following methods:

• U.S. Mail: Written comments should be addressed to the Field Supervisor, U.S. Fish and Wildlife Service, Chicago Field Office, 1250 S. Grove, Suite 103, Barrington, IL 60010.

• Facsimile: Written comments may be faxed to (847) 381-2285.

• E-Mail: sha_dupagecounty@fws.gov.

FOR FURTHER INFORMATION CONTACT: Mr. Jeffrey Mengler, Chicago Field Office (see ADDRESSES); telephone: (847) 381-2253.

SUPPLEMENTARY INFORMATION:

Availability of Documents

Individuals wishing copies of the permit application, copies of our preliminary Environmental Action Statement, and/or copies of the full text of the Agreement, including a map of the proposed permit area, should contact the office and personnel listed in the ADDRESSES section above. Copies of the draft Agreement are also available for public review during normal business hours (8-4:30) at the U.S. Fish and Wildlife Service's Regional Office, located at 1 Federal Drive, Fort Snelling, Minnesota 55111, and at the U.S. Fish and Wildlife Service's Chicago Field Office, located at 1250 S. Grove, Suite 103, Barrington, IL 60010. Documents are also available for review at the Service's Regional Web site at: http://www.fws.gov/midwest/Endangered/permits/hcp/index.html.

Public Availability of Comments

Public requests for comments submitted will be handled in accordance with the Freedom of Information Act. Our practice is to make comments, including names and home addresses of respondents, available for public review during regular business hours. Individual respondents may request we withhold their home address from the record, which we will honor to the extent allowable by law. If a respondent wishes us to withhold his/her name and/or address, this must be stated prominently at the beginning of the comment.

Draft Safe Harbor Agreement

Under a Safe Harbor Agreement, participating landowners voluntarily undertake management activities on their property to enhance, restore, or maintain habitat benefiting species listed under the Act, Safe Harbor Agreements, and the subsequent enhancement of survival permits that are issued pursuant to Section 10(a)(1)(A) of the Act (16 U.S.C. 1531 et seq.), encourage private and other non-Federal property owners to implement conservation measures for federally listed species by assuring property owners that they will not be subjected to increased land use restrictions as a result of efforts to attract or increase the numbers or distribution of a listed species on their property. Application requirements and issuance criteria for enhancement of survival permits through Safe Harbor Agreements are found in 50 CFR 17.22(c).

Land subject to this Agreement (i.e., enrolled land) involve approximately 14 acres within the Waterfall Glen Forest Preserve District in DuPage County, Illinois. The land consists of mowed turf grass, several buildings, a gravel driveway, several picnic shelters, septic systems, and a series of fish ponds that are groundwater fed via a system of pipes and artesian wells. Currently, the land does not provide any suitable habitat for HED.

The purpose of this SHA is to facilitate management actions that results in an increased population of HED on land and water within Waterfall Glen Forest Preserve in DuPage County, Illinois. Specifically, this refers to management actions proposed for the fish farm parcel and adjoining land within said preserve that is owned and managed by the District, a local public agency. Without the Agreement and proposed management actions, the enrolled land is unlikely to support any HED in the foreseeable future. The proposed duration of the Agreement and permit is 15 years.

Upon approval of this Agreement, and consistent with the Service's Safe Harbor Policy published in the Federal Register on June 17, 1999 (64 FR 32717), the Service would issue a permit to the District authorizing take of HED incidental to the implementation of the management activities specified in the Agreement and other lawful uses of the properties, including normal routine land management activities, and/or to return to pre-Agreement conditions (baseline).

Decisions

We will evaluate this permit application, associated documents, and comments submitted thereon to determine whether the permit application meets the requirements of section 10(a)(1)(A) of the Act. If we determine that the requirements are met, we will sign the Agreement and issue an enhancement of survival permit to the Applicant for take of HED incidental to otherwise lawful activities, in accordance with the terms of the Agreement. We will not make our final decision until after the end of the 30-day comment period and we will fully consider all comments received during the comment period.

Dated: February 15, 2008.
Lynn Lewis,
Assistant Regional Director, Acting, Ecological Services, Region 3, Fort Snelling, Minnesota.

[FR Doc. E8-5741 Filed 3-20-08; 8:45 am]

BILLING CODE 4310-55-P